DEPARTMENT OF ENERGY

Federal Energy Regulatory Commission

Combined Notice of Filings #1

November 13, 2009.

Take notice that the Commission received the following electric corporate filings:

Docket Numbers: EC10-17-000.

Applicants: Astoria Energy LLC, SUEZ Energy Astoria LLC,CDPQ Investments (U.S.) Inc., WE Energy Investment LLC,USPF Holdings, LLC, Robert O. Gurman, JEMB Family LP, EIF Astoria III, LLC,AE Bowery Bay LLC.

Description: Astoria Energy LLC et al submits application for authorization of indirect disposition of jurisdictional facilities and acquisition of securities, and request for expedited consideration.

Filed Date: 11/04/2009.

Accession Number: 20091106-0038.

Comment Date: 5 p.m. Eastern Time on Wednesday, November 25, 2009.

Docket Numbers: EC10-18-000.

Applicants: First Solar, Inc., FSE Blythe 1, LLC, NRG Energy, Inc.

Description: NRG Energy, Inc. et al submits Joint Application for Authorization under Section 203 of the Federal Power Act, requesting expedited treatment and request for confidential treatment etc.

Filed Date: 11/04/2009.

Accession Number: 20091106-0091.

Comment Date: 5 p.m. Eastern Time on Wednesday, November 25, 2009.

Docket Numbers: EC10-19-000.

Applicants: Illinois Power Company.

Description: Illinois Power Company et al submits request for approvals pursuant to section 203 of the Federal Power Act and expedited consideration and shortened notice period.

Filed Date: 11/10/2009.

Accession Number: 20091112-0104.

Comment Date: 5 p.m. Eastern Time on Tuesday, December 01, 2009.

Docket Numbers: EC10-20-000.

Applicants: Locust Ridge Wind Farm, LLC, Fortis Energy Marketing & Trading GP.

Description: Application for Authorization under Section 203 of the Federal Power Act of Fortis Energy Marketing & Trading GP and Locust Ridge Wind Farm, LLC.

Filed Date: 11/10/2009.

Accession Number: 20091110-5119.

Comment Date: 5 p.m. Eastern Time on Tuesday, December 01, 2009.

Take notice that the Commission received the following electric rate filings:

Docket Numbers: ER08-374-004; EL08-38-003.

Applicants: Atlantic Path 15, LLC.

Description: Atlantic Path 15, LLC's Refund Report.

Filed Date: 11/12/2009.

Accession Number: 20091112-5164.

Comment Date: 5 p.m. Eastern Time on Thursday, December 03, 2009.

Docket Numbers: ER09-153-001; ER09-154-001; ER09-155-001; ER09-156-001.

Applicants: Southern Company Services, Inc.

Description: Refund Report of Southern Company Services, Inc., in Compliance with Settlement.

Filed Date: 11/12/2009.

Accession Number: 20091112-5236.

Comment Date: 5 p.m. Eastern Time on Thursday, December 03, 2009.

Docket Numbers: ER10-191-001; EC06-4-003.

Applicants: LG&E Energy Corporation, E.ON U.S. LLC.

Description: E.ON U.S. LLC seeks approval to change Applicants method of (i) complying with Order 888, 889 and 890.

Filed Date: 11/05/2009.

Accession Number: 20091106-0086.

Comment Date: 5 p.m. Eastern Time on Friday, November 27, 2009.

Docket Numbers: ER10-210-000.

Applicants: VIRIDIAN ENERGY PA LLC.

Description: Viridian Energy PA LLC submits petition for acceptance of initial tariff, waivers and blanket authority.

Filed Date: 11/09/2009.

Accession Number: 20091110-0036.

Comment Date: 5 p.m. Eastern Time on Monday, November 30, 2009.

Docket Numbers: ER10-225-000.

Applicants: Major Energy Electric Services.

Description: Major Energy Electric Services, LLC submits Petition for Acceptance of Initial Rate Schedule, Waivers and Blanket Authority.

Filed Date: 11/10/2009.

Accession Number: 20091113-0135.

Comment Date: 5 p.m. Eastern Time on Tuesday, December 01, 2009.

Docket Numbers: ER10-226-000.

Applicants: Clean Currents, LLC.

Description: Clean Currents, LLC submits petition for acceptance of initial rate schedule, waivers and blanket authority.

Filed Date: 11/09/2009.

Accession Number: 20091110-0037.

Comment Date: 5 p.m. Eastern Time on Monday, November 30, 2009.

Docket Numbers: ER10-228-000.

Applicants: Star Point Wind Project LLC.

Description: Star Point Wind Project LLC submits FERC Electric Tariff, Original Volume No 1.

Filed Date: 11/06/2009.

Accession Number: 20091110-0038.

Comment Date: 5 p.m. Eastern Time on Friday, November 27, 2009.

Take notice that the Commission received the following PURPA 210(m)(3) filings:

Docket Numbers: QM09-7-001.

Applicants: Old Dominion Electric Cooperative, Inc.

Description: Old Dominion Electric Cooperative Supplemental Information in support of its Application to Terminate Purchase Obligation.

Filed Date: 11/13/2009.

Accession Number: 20091113-5042.

Comment Date: 5 p.m. Eastern Time on Friday, December 11, 2009.

Take notice that the Commission received the following electric reliability filings:

Docket Numbers: RR10-2-000.

Applicants: North American Electric Reliability Corp.

Description: Petition of the North American Electric Reliability Corporation for Approval of Amendment to its Delegation Agreements with Regional Entities to Extend Initial Term of Agreements to May 2011.

Filed Date: 11/12/2009.

Accession Number: 20091112-5187.

Comment Date: 5 p.m. Eastern Time on Thursday, December 03, 2009.

Docket Numbers: RR10-3-000.

Applicants: North American Electric Reliability Corp.

Description: Petition of the North American Electric Reliability Corporation for Approval of Amendments to its Rules of Procedure to Reflect Elimination of the Reliability Readiness Evaluation and Improvement Program.

Filed Date: 11/12/2009.

Accession Number: 20091112-5188.

Comment Date: 5 p.m. Eastern Time on Thursday, December 03, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-27916 Filed 11-19-09; 8:45 am]

BILLING CODE 6717-01-P